DEPARTMENT OF COMMERCE

International Trade Administration

[A-570-849]

Certain Cut-to-Length Carbon Steel Plate from the People's Republic of China: Notice of Extension of Time Limit for Final Results of Administrative Review

AGENCY: Import Administration, International Trade Administration, Department of Commerce.

EFFECTIVE DATE: November 20, 2009.

FOR FURTHER INFORMATION CONTACT: Demitri Kalogeropoulos, AD/CVD Operations, Office 8, Import Administration, International Trade Administration, U.S. Department of Commerce, 14th Street and Constitution Avenue, NW, Washington, DC 20230; telephone: (202) 482-2623.

Background

On August 10, 2009, the Department of Commerce (“Department”) published the preliminary results of the administrative review of the antidumping duty order on certain cut-to-length carbon steel plate from the People's Republic of China, covering the period November 1, 2007, through October 31, 2008. See Certain Cut-to-Length Carbon Steel Plate From the People's Republic of China: Preliminary Results and Partial Rescission of Antidumping Duty Administrative Review, 74 FR 39921 (August 10, 2009) (“Preliminary Results”). The final results are currently due no later than December 8, 2009.

Extension of Time Limits for Final Results

Pursuant to section 751(a)(3)(A) of the Tariff Act of 1930, as amended (“the Act”), the Department shall issue the final results of an administrative review within 120 days after the date on which the preliminary results are published. However, if it is not practicable to complete the review within this time period, section 751(a)(3)(A) of the Act allows the Department to extend the time period to a maximum of 180 days. Completion of the final results of this review within the 120-day period is not practicable because the Department needs additional time to analyze and address complicated separate rate and affiliation issues for the final results. Therefore, in accordance with section 751(a)(3)(A) of the Act, given the complexity of issues in this case, we are extending the time limit for completion of the final results by 60 days.

An extension of 60 days from the current deadline of December 8, 2009, would result in a new deadline of February 6, 2010. However, since February 6, 2010, falls on a Saturday, a non-business day, the final results will now be due no later than February 8, 2010, the next business day.

This notice is published in accordance with sections 751(a)(3)(A) and 777(i) of the Act.

Dated: November 16, 2009.
John M. Andersen,
Acting Deputy Assistant Secretary for Antidumping and Countervailing Duty Operations.

[FR Doc. E9-27935 Filed 11-19-09; 8:45 am]

BILLING CODE 3510-DS-S